AFRICAN DEVELOPMENT FOUNDATION

African Development Foundation, Board of Directors Meeting

Time: Tuesday, January 26, 2010, 8:30 a.m. to 1 p.m.

Place: African Development Foundation, Conference Room, 1400 I Street, NW., Suite 1000, Washington, DC 20005.

Dates: Tuesday, January 26, 2010.

Status:

1. Open session, Tuesday, January 26, 2010, 8:30 a.m. to 12 a.m.; and

2. Closed session, Tuesday, January 26, 2010, 12 p.m. to 1 p.m.

Due to security requirements and limited seating, all individuals wishing to attend the open session of the meeting must notify Michele M. Rivard at (202) 673-3916 or mrivard@usadf.gov of your request to attend by 5 p.m. on Thursday, January 21, 2010.

Lloyd O. Pierson,
President & CEO, USADF.

[FR Doc. 2010-787 Filed 1-15-10; 8:45 am]

BILLING CODE 6117-01-P